DEPARTMENT OF HOMELAND SECURITY

Coast Guard

33 CFR Part 117

[Docket No. USCG-2017-0231]

Drawbridge Operation Regulation; Hutchinson River, New York, NY

AGENCY: Coast Guard, DHS.

ACTION: Notice of deviation from drawbridge regulation.

SUMMARY: The Coast Guard has issued a temporary deviation from the operating schedule that governs the Hutchinson River Parkway Bridge across the Hutchinson River, mile 0.9 at New York, New York. This deviation is necessary to complete application of protective coating on the bridge as well as maintenance of operating machinery.

DATES: This deviation is effective without actual notice from May 1, 2017 through 12:01 a.m. on September 29, 2017. For the purposes of enforcement, actual notice will be used from 12:01 a.m. on April 3, 2017 until May 1, 2017.

ADDRESSES: The docket for this deviation, USCG-2017-0231 is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email james.m.moore2@uscg.mil.

SUPPLEMENTARY INFORMATION: The New York City Department of Transportation, the owner of the bridge, requested a temporary deviation from the normal operating schedule to facilitate application of protective coating to the bridge as well as maintenance of operating machinery. The Hutchinson River Parkway Bridge, across the Hutchinson River, mile 0.9 at New York, New York has a vertical clearance of 30 feet at mean high water and 38 feet at mean low water in the closed position. The existing drawbridge operating regulations are listed at 33 CFR 117.793(b).

Under this temporary deviation, between April 3, 2017 and September 29, 2017 the draw of the Hutchinson River Parkway Bridge will be closed to navigation for a period not to exceed 7 days; the draw will then open for vessels in accordance with established operating regulations for a period not to exceed another 7 days, after which the cycle will repeat.

Vessels that can pass under the bridge without an opening may do so at all times. The bridge will not be able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 25, 2017.
C.J. Bisignano,
Supervisory Bridge Management Specialist, First Coast Guard District.

[FR Doc. 2017-08680 Filed 4-28-17; 8:45 am]

BILLING CODE 9110-04-P